INTERNATIONAL TRADE COMMISSION

[Inv. No. 337-TA-753]

Certain Semiconductor Chips and Products Containing Same; Notice of Investigation

AGENCY: U.S. International Trade Commission.

ACTION: Institution of investigation pursuant to 19 U.S.C. 1337.

SUMMARY: Notice is hereby given that a complaint was filed with the U.S. International Trade Commission on December 1, 2010, under section 337 of the Tariff Act of 1930, as amended, 19 U.S.C. 1337, on behalf of Rambus Inc. of Sunnyvale, California. The complaint alleges violations of section 337 based upon the importation into the United States, the sale for importation, and the sale within the United States after importation of certain semiconductor chips and products containing same by reason of infringement of certain claims of U.S. Patent No. 6,470,405 (“the `405 patent”); U.S. Patent No. 6,591,353 (“the `353 patent”); U.S. Patent No. 7,287,109 (“the ‘109 patent”); U.S. Patent No. 7,602,857 (“the ‘857 patent”); U.S. Patent No. 7,602,858 (“the ‘858 patent”); U.S. Patent No. 7,715,494 (“the ‘494 patent”). The complaint further alleges that an industry in the United States exists as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Daniel L. Girdwood, Esq., Office of Unfair Import Investigations, U.S. International Trade Commission, telephone (202) 205-3409.

Authority: The authority for institution of this investigation is contained in section 337 of the Tariff Act of 1930, as amended, and in section 210.10 of the Commission's Rules of Practice and Procedure, 19 CFR 210.10 (2010).

Scope of Investigation: Having considered the complaint, the U.S. International Trade Commission, on December 28, 2010, Ordered That—

(1) Pursuant to subsection (b) of section 337 of the Tariff Act of 1930, as amended, an investigation be instituted to determine whether there is a violation of subsection (a)(1)(B) of section 337 in the importation into the United States, the sale for importation, or the sale within the United States after importation of certain semiconductor chips and products containing same that infringe one or more of claims 11-13, 15, and 18 of the ‘405 patent; claims 11-13 of the ~~`353 patent; claims 1, 2, 4, 5, 12, 13, 20, 21, and 24 of the ‘109 patent; claims 1, 2, 4-6, 9-13, 24-28, 31-36, 39-44, 47, and 49-53 of the ‘857 patent; claims 1, 2, 4, 7, and 20 of the ‘858 patent; and claims 1-3, 6, 8, 25, 26, 30, 39, 40, and 42 of the ‘494 patent, and whether an industry in the United States exists as required by subsection (a)(2) of section 337;

(2) For the purpose of the investigation so instituted, the following are hereby named as parties upon which this notice of investigation shall be served:

(a) The complainant is:

Rambus Inc., 1050 Enterprise Way, Suite 700, Sunnyvale, CA 94089.

(b) The respondents are the following entities alleged to be in violation of section 337, and are the parties upon which the complaint is to be served:

Freescale Semiconductor, Inc., 6501 William Cannon Drive West, Austin, TX 78735.

Broadcom Corporation, 5300 California Avenue, Irvine, CA 92617.

LSI Corporation, 1621 Barber Lane, Milpitas, CA 95035.

MediaTek Inc., No. 1, Dusing Road 1, Hsinchu Science Park, Hsin-Chu, Taiwan 30078.

nVidia Corporation, 2701 San Tomas Expressway, Santa Clara, CA 95050.

STMicroelectronics N.V., 39, Chemin du Champ des Filles, C. P. 21CH 1228 Plan-Les-Ouates, Geneva, Switzerland.

STMicroelectronics Inc., 1310 Electronics Dr., Carrollton, TX 75006.

Asustek Computer Inc., 15, Li The Road, Taipei City 11259, Taiwan.

Asus Computer International Inc., 800 Corporate Way, Fremont, CA 94539.

Audio Partnership Plc., Gallery Court, Hankey Place, London SE1 4BB, United Kingdom.

Biostar Microtech (U.S.A.) Corp., 18551 East Gale Avenue, City of Industry, CA 91748.

Biostar Microtech International Corp., 2 Fl., 108-2, Ming Chuan Road, Hsin Tien, Taiwan.

Cisco Systems, Inc., 170 West Tasman Drive, San Jose, CA 95134-1706.

Elitegroup Computer Systems, No. 239, Sec. 2, Ti Ding Blvd., Taipei, Taiwan 11493.

EVGA Corporation, 2900 Saturn Street, Suite B, Brea, CA 92821.

Galaxy Microsystems Ltd., Room 1101-1103, 11/F, Enterprise Square Two, 3 Sheung Yuet Road, Kowloon Bay, KLN., Hong Kong.

Garmin International, 1200 E. 151st Street, Olathe, KS 66062-3426.

G.B.T. Inc., 17358 Railroad St., City of Industry, CA 91748.

Giga-Byte Technology Co., Ltd., No. 6, Bau Chiang Road, Hsin-Tien, Taipei 231, Taiwan.

Gracom Technologies LLC, 1214 John Reed Ct., City of Industry, CA 91745.

Hewlett-Packard Company, 3000 Hanover St., Palo Alto, CA 94304.

Hitachi Global Storage Technologies, 3403 Yerba Buena Road, San Jose, CA 95135.

Jaton Corporation, 47677 Lakeview Blvd., Fremont, CA 94538.

Jaton Technology TPE, 10F, No. 194, Sec. 3, Ta-Tung Road, Hsi-Chih, Taiwan.

Micro-Star International Co., Ltd., No. 69, Li-De St., Jung-He City, Taipei Hsien, Taiwan.

MSI Computer Corporation, 901 Canada Court, City of Industry, California 91748.

Motorola, Inc., 1303 East Algonquin Road, Schaumburg, IL 60196.

Oppo Digital, Inc., 2629 Terminal Blvd., Suite B, Mountain View, CA 94043.

Palit Microsystems Ltd., 21F, 88, Sec. 2, Chung Hsiao E. Rd., Taipei, Taiwan.

Pine Technology Holdings, Ltd., Unit A, 32/F Manulife Tower, 169 Electric Road, North Point, Hong Kong.

Seagate Technology, 920 Disc Drive, Scotts Valley, CA 95066.

Sparkle Computer Co., Ltd., 5F.-7, No. 79, Sec. 1, Xintai 5th Rd., Xizhi City, Taipei County 221, Taiwan.

Zotac International (MCO) Ltd., 19/F., Shatin Galleria, 18-24 Shan Mei Street, Fo Tan, Shatin, N.T. Hong Kong.

Zotac USA Inc., 17921 Rowland Street, City of Industry, CA 91748.

(c) The Commission investigative attorney, party to this investigation, is Daniel L. Girdwood, Esq., Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefore is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 29, 2010.
Marilyn R. Abbott,
Secretary to the Commission.

[FR Doc. 2010-33207 Filed 1-3-11; 8:45 am]

BILLING CODE 7020-02-P